DEPARTMENT OF HEALTH AND HUMAN SERVICES

Centers for Medicare & Medicaid Services

[Document Identifiers CMS-R-262, CMS-R-282, CMS-10227, CMS-10609 and CMS-10731]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by March 9, 2023.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: CMS Plan Benefit Package (PBP) and Formulary CY 2024; Use: Under the Medicare Modernization Act (MMA), Medicare Advantage (MA) and Prescription Drug Plan (PDP) organizations are required to submit plan benefit packages for all Medicare beneficiaries residing in their service area. The plan benefit package submission consists of the Plan Benefit Package (PBP) software, formulary file, and supporting documentation, as necessary. MA and PDP organizations use the PBP software to describe their organization's plan benefit packages, including information on premiums, cost sharing, authorization rules, and supplemental benefits. They also generate a formulary to describe their list of drugs, including information on prior authorization, step therapy, tiering, and quantity limits.

CMS requires that MA and PDP organizations submit a completed PBP and formulary as part of the annual bidding process. During this process, organizations prepare their proposed plan benefit packages for the upcoming contract year and submit them to CMS for review and approval. CMS uses this data to review and approve the benefit packages that the plans will offer to Medicare beneficiaries. This allows CMS to review the benefit packages in a consistent way across all submitted bids during with incredibly tight timeframes. This data is also used to populate data on Medicare Plan Finder, which allows beneficiaries to access and compare Medicare Advantage and Prescription Drug plans. Form Number: CMS-R-262 (OMB control number: 0938-0763); Frequency: Yearly; Affected Public: Private Sector, Business or other for-profits, Not-for-profits institutions; Number of Respondents: 839; Total Annual Responses: 8,932; Total Annual Hours: 57,126. (For policy questions regarding this collection contact Kristy Holtje, at 410-786-2209.)

2. Type of Information Collection Request: Extension with no change of a currently approved collection; Title of Information Collection: Medicare Advantage Appeals and Grievance Data Form; Use: Part 422 of Title 42 of the Code of Federal Regulations (CFR) distinguishes between certain information a Medicare Advantage (MA) organization must provide to each enrollee (on an annual basis) and information that the MA organization must disclose to any MA eligible individual (upon request). This requirement can be found in § 1852(c)(2)(C) of the Social Security Act and in 42 CFR 422.111(c)(3) which states that MA organizations must disclose information pertaining to the number of disputes, and their disposition in the aggregate, with the categories of grievances and appeals, to any individual eligible to elect an MA organization who requests this information.

The appeals and grievance data form is an OMB approved form for use by Medicare Advantage organizations to disclose grievance and appeal data, upon request, to individuals eligible to elect an MA organization. By utilizing the form, MA organizations will meet the disclosure requirements set forth in regulations at 42 CFR 422.111(c)(3). Form Number: CMS-R-282 (OMB control number: 0938-0778); Frequency: Yearly; Affected Public: State, Local, or Tribal Governments; Number of Respondents: 949; Total Annual Responses: 63,740; Total Annual Hours: 5,964. (For policy questions regarding this collection contact Sabrina Edmonston at 410-786-3209.)

3. Type of Information Collection Request: Extension of a currently approved collection; Title of Information Collection: PACE State Plan Amendment Preprint; Use: If a state elects to offer PACE as an optional Medicaid benefit, it must complete a state plan amendment preprint packet described as “Enclosures 3, 4, 5, 6, and 7.” CMS will review the information provided in order to determine if the state has properly elected to cover PACE services as a state plan option. In the event that the state changes something in the state plan, only the affected page must be updated. Form Number: CMS-10227 (OMB control number: 0938-1027); Frequency: Once and occasionally; Affected Public: State, Local, or Tribal Governments; Number of Respondents: 7; Total Annual Responses: 2; Total Annual Hours: 140. (For policy questions regarding this collection contact Angela Cimino at 410-786-2638.)

4. Type of Information Collection Request: Revision of a currently approved collection; Title of Information Collection: Medicaid Program Face-to-Face Requirements for Home Health Services and Supporting Regulations; Use: Physicians (or for medical equipment, authorized non-physician practitioners (NPPs) including nurse practitioners, clinical nurse specialists and physician assistants) must document that there was a face-to-face encounter with the Medicaid beneficiary prior to the physician making a certification that home health services are required. The burden associated with this requirement is the time and effort to complete this documentation. The burden also includes writing, typing, or dictating the face-to-face documentation and signing/dating the documentation.

Section 3708 of the Coronavirus Aid, Relief, and Economic Security (CARES) Act permits nurse practitioners (NPs), clinical nurse specialists (CNSs), and physician assistants (PAs) to certify the need for home health services and to order services in the Medicare and Medicaid programs. As such, under CMS-5531-IFC, CMS amended 42 CFR 440.70 to remove the requirement that the NPPs have to communicate the clinical finding of the face-to-face encounter to the ordering physician. With expanding authority to order home health services, the CARES Act also provided that such practitioners are now capable of independently performing the face-to-face encounter for the patient for whom they are the ordering practitioner, in accordance with state law. Form Number: CMS-10609 (OMB control number: 0938-1319); Frequency: Occasionally; Affected Public: Private sector (business or other for-profits); Number of Respondents: 381,148; Total Annual Responses: 1,143,443; Total Annual Hours: 190,955. (For policy questions regarding this collection contact Alexandra Eitel at 410-786-0790.)

5. Type of Information Collection Request: New collection (Request for a new OMB control number); Title of Information Collection: Generic Clearance for CMS and Medicare Administrative Contractor (MAC) Generic Customer Experience; Use: The Centers for Medicare & Medicaid Services (CMS) is requesting approval to collect generic feedback from respondents including, but not limited to Medicare providers, Medicare suppliers, provider or supplier staff, billers, credentialing agencies, researchers, clearinghouses, consultants, and attorneys. These surveys will give us insights into customers' perceptions and opinions and will be used to improve customer experiences and communications materials; however, the results will not be generalized to the population of study.

Improving agency programs requires ongoing systemic review of service delivery and program operations compared to defined standards. We'll use multiple methods to collect, analyze, and interpret information from this generic clearance to find the strengths and weaknesses of our current services. We'll use this feedback to inform process improvements or maintain service quality offered to providers and stakeholders. Form Number: CMS-10731 (OMB control number: 0938-New); Frequency: Occasionally; Affected Public: Private sector (business or other for-profits); Number of Respondents: 997,100; Total Annual Responses: 997,100; Total Annual Hours: 50,000. (For policy questions regarding this collection contact Alyssa Schaub-Rimel at 410-786-4660.)

Dated: February 2, 2023.
William N. Parham, III,
Director, Paperwork Reduction Staff, Office of Strategic Operations and Regulatory.

[FR Doc. 2023-02579 Filed 2-6-23; 8:45 am]

BILLING CODE 4120-01-P